DEPARTMENT OF HEALTH AND HUMAN SERVICES

National Institutes of Health

Proposed Collection; 60-Day Comment Request: NEXT Generation Health Study

Summary: In compliance with the requirement of Section 3506(c)(2)(A) of the Paperwork Reduction Act of 1995, for opportunity for public comment on proposed data collection projects, the Eunice Kennedy Shriver National Institute of Child Health and Human Development, the National Institutes of Health (NIH) will publish periodic summaries of proposed projects to be submitted to the Office of Management and Budget (OMB) for review and approval.

Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) The quality, utility, and clarity of the information to be collected; and (4) Minimize the burden of the collection of information on those who are to respond, including the use of appropriate automated, electronic, mechanical, or other technological collection techniques or other forms of information technology.

To Submit Comments and for Further Information: To obtain a copy of the data collection plans and instruments, submit comments in writing, or request more information on the proposed project, contact: Denise L. Haynie, Ph.D., MPH, Staff Scientist, Division of Population Intramural Research, 6100 Executive Blvd. Rm. 7B13, Bethesda, MD 20892, or call non-toll-free number (301)-435-6933 or Email your request, including your address to: Denise_Haynie@nih.gov. Formal requests for additional plans and instruments must be requested in writing.

Comment Due Date: Comments regarding this information collection are best assured of having their full effect if received within 60 days of the date of this publication.

Proposed Collection: NEXT Generation Health Study, 0925-0610, Expiration Date 04/30/2016, EXTENSION, Eunice Kennedy Shriver National Institute of Child Health and Human Development (NICHD), National Institutes of Health (NIH).

Need and Use of Information Collection: The goal of this research is to obtain data on health and health behaviors annually for seven years beginning in the 2009-2010 school-year from a national probability sample of adolescents. The transition from high school to post high school years is a critical period for changes in health risk behaviors. This information will enable the improvement of health services and programs for youth. The study will provide needed information about the health of U.S. adolescents and young adults and influences on their health.

The study has collected information on adolescent health behaviors and social and environmental contexts for these behaviors annually for six years beginning in the 2009-2010 school year. This study will collect this information in 2016, the last planned data collection. Self-report of health status, health behaviors, and health attitudes will be collected by online surveys.

OMB approval is requested for 3 years. There are no costs to respondents other than their time. The total estimated annualized burden hours are 1385.

Estimated Annualized Burden Hours
Form name | Type of respondents | Number of respondents | Number of responses per respondent | Average burden per response (in hours) | Total annual burden hour
NEXT Annual Survey | Young Adults | 2100 | 1 | 35/60 | 1225
In Home Assessment | Young Adults | 532 | 1 | 15/60 | 133
In-home Survey | Young Adults | 532 | 1 | 3/60 | 27
Total annual burden hours |  | 2100 | 3164 |  | 1385

Dated: March 3, 2016.
Sarah Glavin,
Project Clearance Liaison, NICHD, NIH.

[FR Doc. 2016-05422 Filed 3-9-16; 8:45 am]

BILLING CODE 4140-01-P